DEPARTMENT OF ENERGY

Federal Energy Regulatory Commission

Combined Notice of Filings #1

Take notice that the Commission received the following electric rate filings:

Docket Numbers: ER10-1513-001.

Applicants: Wolverine Power Supply Cooperative, Inc.

Description: Market Power Update of Wolverine Power Supply Cooperative, Inc.

Filed Date: 12/21/11.

Accession Number: 20111221-5251.

Comments Due: 5 p.m. ET 2/21/12.

Docket Numbers: ER10-2671-004; ER10-1543-003; ER10-1544-003; ER10-2629-005; ER10-1549-003; ER10-2675-004.

Applicants: Choctaw Generation Limited Partnership, Hot Spring Power Company, LLC,GDF SUEZ Energy Marketing NA, Inc., IPA Trading, LLC, Choctaw Gas Generation, LLC, FirstLight Power Resources Management, L, ANP Funding I, LLC.

Description: Triennial Market Power Update for the Southeast Region of the GDF SUEZ Southeast MBR Sellers.

Filed Date: 12/22/11.

Accession Number: 20111222-5070.

Comments Due: 5 p.m. ET 2/21/12.

Docket Numbers: ER10-2895-003; ER11-2292-002; ER11-3942-001; ER11-2293-002; ER10-2917-003; ER11-2294-002; ER10-2918-004; ER10-2920-003; ER11-3941-001; ER10-2921-003; ER10-2922-003; ER10-3048-001; ER10-2966-003.

Applicants: Bear Swamp Power Company LLC, Brookfield Energy Marketing Inc, Brookfield Energy Marketing LP, Brookfield Energy Marketing US LLC, Brookfield Power Piney & Deep Creek LLC, Brookfield Renewable Energy Marketing US LLC, Carr Street Generating Station, L.P., Erie Boulevard Hydropower, L.P, Granite Reliable Power, LLC, Great Lakes Hydro America, LLC, Hawks Nest Hydro LLC, Longview Fibre Paper and Packaging, Inc., Rumford Falls Hydro LLC.

Description: Notice of Non-Material Change in Status for Brookfield Energy Marketing LP, et. al.

Filed Date: 12/21/11.

Accession Number: 20111221-5262.

Comments Due: 5 p.m. ET 1/11/12.

Docket Numbers: ER11-2741-002.

Applicants: CPV Batesville, LLC.

Description: Market Power Update of CPV Batesville, LLC.

Filed Date: 12/21/11.

Accession Number: 20111221-5255.

Comments Due: 5 p.m. ET 2/21/12.

Docket Numbers: ER11-3812-002.

Applicants: LSP Energy Limited Partnership.

Description: Market Power Update of LSP Energy Limited Partnership.

Filed Date: 12/21/11.

Accession Number: 20111221-5259.

Comments Due: 5 p.m. ET 2/21/12.

Docket Numbers: ER12-662-000.

Applicants: Southern California Edison Company.

Description: SGIA WDAT SERV AG SCE-SEPV 8 LLC SEPV 8 Project to be effective 12/23/2011.

Filed Date: 12/22/11.

Accession Number: 20111222-5001.

Comments Due: 5 p.m. ET 1/12/12.

Docket Numbers: ER12-663-000

Applicants: Southwest Power Pool, Inc.

Description: Southwest Power Pool, Inc. Request for Waiver of Tariff Provision and Expedited Treatment under ER12-663.

Filed Date: 12/22/11.

Accession Number: 20111222-5069.

Comments Due: 5 p.m. ET 1/12/12.

Take notice that the Commission received the following qualifying facility filings:

Docket Numbers: QF12-120-000.

Applicants: The Coca-Cola Company.

Description: Form 556—Notice of self-certification of qualifying cogeneration facility status of The Coca-Cola Company.

Filed Date: 12/21/2011.

Accession Number: 20111221-5164.

Comment Date: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 22, 2011.
Nathaniel J. Davis, Sr.,
Deputy Secretary.

[FR Doc. 2011-33675 Filed 1-3-12; 8:45 am]

BILLING CODE 6717-01-P